DEPARTMENT OF JUSTICE

Notice of Lodging of Proposed Consent Decree Under the Safe Drinking Water Act

On June 14, 2023, the Department of Justice lodged a proposed consent decree with the United States District Court for the Eastern District of New York in the lawsuit entitled United States of America v. County of Suffolk; Suffolk County Department of Parks and Recreation and Suffolk County Department of Public Works, Civil Action No. 23-CV-4369.

The United States filed this lawsuit under the Safe Drinking Water Act, 42 U.S.C. 300f, et seq (“SDWA”). The complaint seeks civil penalties and injunctive relief for ongoing and past operation of a large number of a large capacity cesspools (“LCC”) and motor vehicle waste disposal wells (“MVWDW”) in violation of SDWA and the regulations promulgated thereunder, 40 CFR 144.80 to 144.89. The relevant regulations required the closure of all LCCs nationwide as of April 5, 2005, and all MVWDWs on or before January 1, 2008. Large-capacity cesspools and motor vehicle waste disposal wells may pose a serious risk to the public because they may contaminate underground sources of drinking water.

The consent decree requires the Defendants to close the prohibited LCCs and MVWDWs in accordance with a timetable contained in the CJ. The LCCs are to be closed by phased deadlines, varying from thirty days after the effective date of the CJ through January 2, 2031. Five facilities will be closed in 2023, four in 2024, two in 2025, three in 2026, one in 2027, five in 2028, four in 2030 and one in 2031. “Closure” for purposes of the consent decree means permanent closing of a facility upon submission of a Final Closure Report after following the procedures set forth in the memorandum entitled “EPA Region 2 Underground Injection Control (UIC) Program Instructions for Class V Remediation/Closure Plans.” In general, holding tanks will be the replacement system for recreational vehicle dump stations and certain LCCs. Innovative Alternative Systems, which provide greater nitrogen reduction, will be used for systems associated with buildings. EPA estimates this injunctive relief will cost $7,020,000. The consent judgment also requires Defendants to pay a $200,000 civil penalty.

The publication of this notice opens a period for public comment on the proposed consent decree. Comments should be addressed to the Assistant Attorney General, Environment and Natural Resources Division, Environmental Enforcement Section and should refer to United States of America v. County of Suffolk; Suffolk County Department of Parks and Recreation and Suffolk County Department of Public Works, Civil Action No. 23-CV-4369, D.J. Ref. No. 90-5-1-1-12533. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $17.00 (25 cents per page reproduction cost) payable to the United States Treasury.

Henry Friedman,
Assistant Section Chief, Environmental Enforcement Section, Environment and Natural Resources Division.

[FR Doc. 2023-13235 Filed 6-21-23; 8:45 am]

BILLING CODE 4410-15-P